NATIONAL ARCHIVES AND RECORDS ADMINISTRATION

[NARA-2021-040]

Draft FY 2022-2026 Strategic Plan

AGENCY: National Archives and Records Administration (NARA).

ACTION: Invitation to comment.

SUMMARY: We have posted our new draft Strategic Plan and are inviting feedback from staff, public and Government customers, stakeholders, and colleagues in the archival, historical, and records management communities.

DATES: Please provide your feedback by August 20, 2021.

Location: You can view the draft Strategic Plan in two places: On our website at http://archives.gov/about/plans-reports/strategic-plan/draft-strategic-plan and on GitHub at https://usnationalarchives.github.io/strategic-plan. You can submit feedback on GitHub or by email to strategy@nara.gov.

FOR FURTHER INFORMATION CONTACT: Carla Patterson, Director, Strategy and Performance Division, National Archives and Records Administration; 8601 Adelphi Road, College Park, Maryland 20740, by email at strategy@nara.gov, or by telephone at 301 837-0993.

SUPPLEMENTARY INFORMATION: The draft plan reaffirms our current Mission, Vision, Values, Transformational Outcomes, and Strategic Goals (see Strategic Plan (FY 2018-FY 2022) at https://www.archives.gov/about/plans-reports/strategic-plan). The draft plan updates the agency's strategic objectives to focus agency resources on improving equity, providing a world-class customer experience for all customers, and using our experiences during the pandemic to accelerate agency modernization.

Our draft Strategic Plan commits to new outreach to traditionally underserved communities and to work with these communities to identify the records in our holdings that are most important to them. Once identified, we'll prioritize those records for archival processing and describing, digitizing, and accessing online. We're at the beginning of a process to build new relationships with underserved communities, and this draft plan reflects our intent to maintain and foster those relationships over time.

The draft Strategic Plan also revitalizes our customer service activities by addressing the entire customer experience. We've proposed agency-wide objectives to better understand customer needs and expectations and modernize services and communications channels. These objectives will drive cross-agency activities to provide a unified, responsive experience for customers across all of our services lines.

And finally, the draft Strategic Plan challenges our programs and agency records management functions to continue modernizing activities that we started during the COVID-19 pandemic. We recognize that making more of our work processes electronic and online will allow us to fulfill more of our mission remotely, making the agency more resilient over time. We also commit to modernizing our records management policies to keep pace with changes in how Federal agencies create and manage a new generation of electronic records.

All Federal agencies must issue a new Strategic Plan every four years. We shared this draft plan with National Archives employees on July 28 and are now sharing the plan with stakeholders and the public for comment.

We'll collect and consider feedback, and then revise and share the draft plan with the Office of Management and Budget by September 13. We'll publish the final Strategic Plan in February 2022 and it will become the agency's official plan for fiscal years 2022 through 2026.

David S. Ferriero,
Archivist of the United States.

[FR Doc. 2021-16850 Filed 8-5-21; 8:45 am]

BILLING CODE 7515-01-P